DEPARTMENT OF JUSTICE

National Institute of Corrections

Advisory Board Meeting

Time and Date: 8 a.m. to 4:30 p.m. on Monday, September 25, 2006. 8 a.m. to 4:30 p.m. on Tuesday, September 26, 2006.

Place: Courtyard by Marriott Detroit, 333 E. Jefferson Avenue, Detroit, Michigan 48226, Phone: 313-222-7700.

Status: Open.

Matters to be Considered: Site Visit to Michigan Department of Corrections; Observation of Michigan Prisoner ReEntry Initiative; Faith Based; Evidence-based practices, Institutional culture work; and pubic/private funding partnerships; PREA Update; Agency Reports.

For Further Information Contact: Larry Solomon, Deputy Director, 202-307-3106, ext. 44254.

Morris L. Thigpen,
Director.

[FR Doc. 06-6427 Filed 7-21-06; 8:45 am]

BILLING CODE 4410-36-M